NUCLEAR REGULATORY COMMISSION

Consolidated Guidance About Materials Licenses: Guidance About Administrative Licensing Procedures

AGENCY: Nuclear Regulatory Commission (NRC).

ACTION: Notice of Availability of final NUREG.

SUMMARY: The NRC is announcing the availability of the final NUREG-1556, Volume 20, “Consolidated Guidance about Materials Licenses: Guidance about Administrative Licensing Procedures,” dated December 2000.

The NRC is using Business Process Redesign techniques to redesign its materials licensing process, as described in NUREG-1539, “Methodology and Findings of the NRC's Materials Licensing Process Redesign.” A critical element of the new process is consolidating and updating numerous guidance documents into a NUREG-series of reports. This final NUREG report is the 20th guidance document developed for the new process.

This guidance is intended for use by the NRC staff, and will also be available to Agreement States, applicants, and licensees. This document combines and updates the guidance for NRC license reviewers and licensing assistants previously found in the documents listed in Appendix A of the NUREG. NRC licensing staff will use these administrative procedures to process license applications and prepare licenses.

A free single copy of final NUREG-1556, Volume 20, may be requested by writing to the U.S. Nuclear Regulatory Commission, ATTN: Mrs. Carrie Brown, Mail Stop TWFN 9-F-31, Washington, DC. 20555-0001. Alternatively, submit requests through the Internet by addressing electronic mail to cxb@nrc.gov. A copy of final NUREG-1556, Volume 20, is also available for inspection and/or copying for a fee in the NRC Public Document Room, 11555 Rockville Pike, Room 01-F21, Rockville, Maryland 20852.

FOR FURTHER INFORMATION, CONTACT: Mrs. Carrie Brown, TWFN 9-F-31, Division of Industrial and Medical Nuclear Safety, Office of Nuclear Material Safety and Safeguards, U.S. Nuclear Regulatory Commission, Washington, DC 20555, telephone (301) 415-8092; electronic mail address: cxb@nrc.gov.

Electronic Access

Final NUREG-1556, Vol. 20 is available electronically by visiting the NRC's Home Page (http://www.nrc.gov/nrc/nucmat.html).

Dated at Rockville, Maryland, this 31st day of January, 2001.
For the Nuclear Regulatory Commission.
Patricia K. Holahan,
Chief, Rulemaking and Guidance Branch, Division of Industrial and Medical Nuclear Safety, NMSS.

[FR Doc. 01-3134 Filed 2-6-01; 8:45 am]

BILLING CODE 7590-01-P